DEPARTMENT OF ENERGY

Federal Energy Regulatory Commission

[Docket No. EC00-141-001]

Potomac Electric Power Co., et al.; Notice of Filing

November 8, 2000.

Take notice that, on November 3, 2000, Southern Energy Mid-Atlantic, L.L.C. (SE Mid-Atlantic) and Potomac Electric Power Company (Pepco) tendered for filing pursuant to Section 203 of the Federal Power Act a Supplement to the Joint Application filed in the above-captioned docket on September 20, 2000, by Pepco and SE Mid-Atlantic (Supplement). The Supplement, for which confidential treatment is requested, is intended to provide additional information concerning the proposed long-term leverage lease financing arrangements described in the Joint Application.

Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions and protests should be filed on or before November 16, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 00-29192 Filed 11-14-00; 8:45 am]

BILLING CODE 6717-01-M